DEPARTMENT OF COMMERCE

Foreign-Trade Zones Board

[B-22-2013]

Foreign-Trade Zone 262—Southaven (Desoto County), Mississippi; Authorization of Production Activity; Milwaukee Electric Tool Corporation (Power and Hand Tools); Olive Branch, Greenwood, and Jackson, Mississippi

On February 28, 2013, Northern Mississippi FTZ, Inc., grantee of FTZ 262, submitted a notification of proposed production activity to the Foreign-Trade Zones (FTZ) Board on behalf of Milwaukee Electric Tool Corporation, in Olive Branch, Greenwood, and Jackson, Mississippi.

The notification was processed in accordance with the regulations of the FTZ Board (15 CFR part 400), including notice in the Federal Register inviting public comment (78 FR 17350, 3-21-2013). The FTZ Board has determined that no further review of the activity is warranted at this time. The production activity described in the notification is authorized, subject to the FTZ Act and the FTZ Board's regulations, including Section 400.14, and further subject to a restriction requiring that all foreign inputs included in textile categories (classified within HTSUS 4202.92, 6101.20, 6101.30, 6201.93, 6201.99, 6202.93, 6202.99, 6216.00, 6217.10, and 6307.90) used in the production activity must be admitted to the zone in privileged foreign status (19 CFR 146.41) or domestic (duty-paid) status (19 CFR 146.43).

Dated: June 28, 2013.
Elizabeth Whiteman,
Acting Executive Secretary.

[FR Doc. 2013-16351 Filed 7-5-13; 8:45 am]

BILLING CODE 3510-DS-P